DEPARTMENT OF HEALTH AND HUMAN SERVICES

National Institutes of Health

National Institute of Allergy and Infectious Diseases; Notice of Closed Meetings

Pursuant to section 10(d) of the Federal Advisory Committee Act, as amended (5 U.S.C. Appendix 2), notice is hereby given of the following meetings

The meetings will be closed to the public in accordance with the provisions seth forth in sections 552b(c)(4) and 552b(c)(6), Title 5 U.S.C, as amended. The grant applications and the discussions could disclose confidential trade secrets or commercial property such as patentable material, and personal information concerning individuals associated with the grant applications, the disclosure of which would constitute a clearly unwarranted invasion of personal privacy.

Name of Committee: National Institute of Allergy and Infectious Diseases Special Emphasis Panel, Unsolicited Program Project (P01) Grant Application.

Date: January 10, 2007.

Time: 1 p.m. to 4 p.m.

Agenda: To review and evaluate grant applications.

Place: National Institute of Health, Rockledge 6700, 6700B Rockledge Drive, Bethesda, MD 20817, (Telephone Conference Call).

Contact Person: Kenneth E. Santora, PhD, Scientific Review Administrator, Scientific Review Program, NIH/NIAID/DHHS, Room 3265, 6700B Rockledge Drive, MSC 7616, Bethesda, MD 20892, (301) 451-2605, ks216i@nih.gov.

Name of Committee: National Institute of Allergy and Infectious Diseases Special Emphasis Panel, Clinical Trials Planning Grants.

Date: January 16, 2007.

Time: 10 a.m. to 2 p.m.

Agenda: To review and evaluate grant applications.

Place: National Institute of Health, Rockledge 6700, 6700B Rockledge Drive, Bethesda, MD 20817, (Telephone Conference Call).

Contact Person: Barney Duane Price, PhD, Scientific Review Administrator, Scientific Review Program, DHSS/NIH/NIAID/DEA, Room 2217, 6700B Rockledge Drive, MSC 7616, Bethesda, MD 20892-7616, 301-496-2550, pricebd@niaid.nih.gov.

Name of Committee: National Institute of Allergy and Infectious Diseases Special Emphasis Panel, Non-Antibiotic Selectable Markers for Biodefense.

Date: January 17, 2007.

Time: 8 a.m. to 6:30 p.m.

Agenda: To review and evaluate grant applications.

Place: North Bethesda Marriott, 5701 Marinelli Road, North Bethesda, MD 20852.

Contact Person: Mary J. Homer, PhD, Scientific Review Administrator, Scientific Review Program, Division of Extramural Activities, NIAID/NIH/DHHS, 6700B Rockledge Drive, MSC 7616, Bethesda, MD 20892, (301) 496-7042, mjhomer@niaid.nih.gov.

Name of Committee: National Institute of Allergy and Infectious Diseases Special Emphasis Panel, New Drug Discovery for Tuberculosis.

Date: January 26, 2007.

Time: 12 p.m. to 4 p.m.

Agenda: To review and evaluate grant applications.

Place: National Institutes of Health, Rockledge 6700, 6700B Rockledge Drive, Bethesda, MD 20817, (Telephone Conference Call).

Contact Person: Darren D Sledjeski, PhD, Scientific Review Administrator, NIAID, DEA, Scientific Review Program, Room 3253, 6700B Rockledge Drive, MSC-7616, Bethesda, MD 20892-7616, 301- 451-2638, sledjeskid@niaid.nih.gov.

(Catalogue of Federal Domestic Assistance Program Nos. 93.855, Allergy, Immunology, and Transplantation Research; 93.856, Microbiology and Infectious Diseases Research, National Institutes of Health, HHS)

Dated: December 15, 2006.
Anna Snouffer,
Acting Director, Office of Federal Advisory Committee Policy.

[FR Doc. 06-9817 Filed 12-21-06; 8:45 am]

BILLING CODE 4140-01-M